FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011844.

Title: NYK STAR Reefers Joint Service Agreement

Parties:

NYK Reefers Ltd.

STAR Reefers AS

Synopsis: The agreement establishes a joint service to operate in the trade from ports in New Zealand to ports on the Atlantic and Pacific Coasts of the United States.

Agreement No.: 011745-006.

Title: Evergreen/Lloyd Triestino/Hatsu Marine Alliance Agreement

Parties:

Evergreen Marine Corp. (Taiwan) Ltd.

Lloyd Triestino di Navegazione S.p.A.

Hatsu Marine Limited

Synopsis: The proposed amendment expands the geographic scope to include ports in Central America and the Caribbean. It also authorizes the parties to deploy 61 vessels in the agreement trade but have the ability to operate a maximum of 65 vessels.

Agreement No.: 010806-006.

Title: Portland SSA Terminal-2 Marine Terminal Agreement.

Parties:

The Port of Portland

SSA Pacific Terminals, Inc.

Synopsis: The agreement amendment changes the crane maintenance fee to a reimbursement basis and makes arrangements for a security officer. The agreement continues to run through September 30, 2005.

By Order of the Federal Maritime Commission.
Dated: March 7, 2003.
Bryant L. VanBrakle,
Secretary.

[FR Doc. 03-5917 Filed 3-11-03; 8:45 am]

BILLING CODE 6730-01-P